NUCLEAR REGULATORY COMMISSION

[NRC-2013-0001]

Sunshine Act Meetings

AGENCY HOLDING THE MEETINGS: Nuclear Regulatory Commission.

DATES: Weeks of June 17, 24, July 1, 8, 15, 22, 2013.

PLACE: Commissioners' Conference Room, 11555 Rockville Pike, Rockville, Maryland.

STATUS: Public and Closed.

Week of June 17, 2013

There are no meetings scheduled for the week of June 17, 2013.

Week of June 24, 2013—Tentative

There are no meetings scheduled for the week of June 24, 2013.

Week of July 1, 2013—Tentative

There are no meetings scheduled for the week of July 1, 2013.

Week of July 8, 2013—Tentative

Tuesday, July 9, 2013

9:30 a.m. Briefing on Security Issues (Closed—Ex. 1)

Wednesday, July 10, 2013

9:00 a.m. Briefing on NRC International Activities (Part 1) (Public Meeting) (Contact: Karen Henderson, 301-415-0202)

This meeting will be web cast live at the Web address— www.nrc.gov.

10:30 a.m. Briefing on NRC International Activities (Part 2) (Closed—Ex. 1 & 9) (Contact: Karen Henderson, 301-415-0202).

Thursday, July 11, 2013

9:30 a.m. Meeting with the Advisory Committee on Reactor Safeguards (ACRS) (Public Meeting) (Contact: Ed Hackett, 301-415-7360)

This meeting will be webcast live at the Web address— www.nrc.gov

Week of July 15, 2013—Tentative

There are no meetings scheduled for the week of July 15, 2013.

Week of July 22, 2013—Tentative

There are no meetings scheduled for the week of July 22, 2013.

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: June 13, 2013.
Rochelle C. Bavol,
Policy Coordinator, Office of the Secretary.

[FR Doc. 2013-14586 Filed 6-14-13; 4:15 pm]

BILLING CODE 7590-01-P